DEPARTMENT OF THE INTERIOR

Fish and Wildlife Service

Muscatatuck National Wildlife Refuge, Jackson, Jennings and Monroe Counties, IN, Tamarac National Wildlife Refuge, Becker County, MN, Tamarac Wetland Management District, Beltrami, Cass, Clearwater, Hubbard and Koochiching Counties, MN, and Big Muddy National Wildlife Refuge Authorized Within the Twenty Counties That Lie Along the Missouri River From Kansas City to St. Louis, MO

AGENCY: Fish and Wildlife Service, Interior.

ACTION: Notice of intent to prepare a comprehensive conservation plan and environmental assessment; request for comments.

SUMMARY: The U.S. Fish and Wildlife Service (Service) intends to gather information necessary to prepare a comprehensive conservation plan (CCP) and associated environmental documents for the Muscatatuck, Tamarac, and Big Muddy National Wildlife Refuges (NWRs) and Tamarac Wetland Management District (WMD). We furnish this notice in compliance with our CCP policy to advise other agencies and the public of our intentions, and to obtain suggestions and information on the scope of issues to be considered in the planning process.

In addition, the Service is inviting comments on archeological, historic, and traditional cultural sites in accordance with the National Historic Preservation Act.

Special mailings, newspaper articles, internet postings, and other media announcements will inform people of the opportunities for written comments.

ADDRESSES: Comments or requests for more information can be sent to the appropriate refuge at the following addresses:

1. Attention: Refuge Manager, Muscatatuck National Wildlife Refuge, 12985 East U.S. Hwy 50, Seymour, IN 47274.

2. Attention: Refuge Manager, Tamarac National Wildlife Refuge or Tamarac Wetland District, 35704 County Road 26, Rochert, MN 56578.

3. Attention: Refuge Manager, Big Muddy National Wildlife Refuge, 4200 New Haven Road, Columbia, MO 65201.

You may also find information on the CCP planning process and submit comments electronically on the planning Web site http://www.fws.gov/midwest/planning or you may e-mail comments to r3planning@fws.gov.

FOR FURTHER INFORMATION CONTACT: Marc Webber, Muscatatuck NWR, 812-522-4352; Barbara Boyle, Tamarac NWR and WMD, 218-847-2641; or Tom Bell, Big Muddy NWR, 573-876-1826.

SUPPLEMENTARY INFORMATION: With this notice, we initiate the CCP for the Muscatatuck NWR with headquarters in Seymour, IN; the CCP for the Tamarac NWR and Tamarac WMD with headquarters in Rochert, MN; and the CCP for the Big Muddy NWR with headquarters in Columbia, MO.

Background

The CCP Process

The National Wildlife Refuge System Administration Act of 1966, as amended by the National Wildlife Refuge System Improvement Act of 1997 (16 U.S.C. 668dd-668ee), requires the Service to develop a comprehensive conservation plan for each national wildlife refuge. Land parcels managed by the Service within a Wetland Management District are also units of the National Wildlife Refuge System. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

Each unit of the National Wildlife Refuge System, including each of these NWRs, is established with specific purposes. The Service uses these purposes to develop and prioritize management goals and objectives within the National Wildlife Refuge System mission, and to guide which public uses will occur on these Refuges. The planning process is a way for us and the public to evaluate management goals and objectives for the best possible conservation efforts of this important wildlife habitat, while providing for wildlife-dependent recreation opportunities that are compatible with the Refuges' establishing purposes and the mission of the National Wildlife Refuge System.

The Service will conduct a comprehensive conservation planning process that will provide opportunity for Tribal, State, and local governments; agencies; organizations; and the public to participate in issue scoping and public comment for the future management of the Muscatatuck NWR, Tamarac NWR and WMD, and Big Muddy NWR. We invite anyone interested to respond to the following two questions:

1. What issues do you want to see addressed in the CCP?

2. What improvements would you recommend for the refuges?

Responding to these two questions is optional; you are not required to provide information to us. Our Planning Team developed the questions to gather information about individual issues and ideas concerning these Refuges. Comments we receive will be used as part of the planning process; however, we will not reference individual comments in our reports or directly respond to them.

We will also give the public an opportunity to provide input at open houses. You can obtain a schedule of the open house events by contacting the Refuge Managers listed in the ADDRESSES section of this notice.

The environmental review of these projects will be conducted in accordance with the requirements of the National Environmental Policy Act of 1969, as amended (42 U.S.C. 4321 et seq.); NEPA Regulations (40 CFR parts 1500-1508); other appropriate Federal laws and regulations; and our policies and procedures for compliance with those regulations.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: March 26, 2007.
Robyn Thorson,
Regional Director, Robyn Thorson, U.S. Fish and Wildlife Service, Fort Snelling, Minnesota.

[FR Doc. E7-9384 Filed 5-15-07; 8:45 am]

BILLING CODE 4310-55-P